ADMINISTRATIVE CONFERENCE OF THE UNITED STATES

Notice of Availability of Model Rules of Representative Conduct

AGENCY: Administrative Conference of the United States.

ACTION: Notice.

SUMMARY: The Office of the Chair of the Administrative Conference of the United States (ACUS), through its Working Group on Model Rules of Representative Conduct, has completed and published its Model Rules of Representative Conduct. The rules are intended to help federal agencies amend or develop their rules governing representatives in adjudicative proceedings.

The final revised Model Rules of Representative Conduct are available at https://www.acus.gov/research-projects/working-group-model-rules-representative-conduct.

FOR FURTHER INFORMATION CONTACT: Matthew Gluth, Deputy Research Director, Administrative Conference of the United States, 1120 20th Street NW, Suite 706 South, Washington, DC 20036; Telephone 202-480-2080; email mgluth@acus.gov.

SUPPLEMENTARY INFORMATION: The Administrative Conference Act, 5 U.S.C. 591-596, established ACUS. The Conference studies the efficiency, adequacy, and fairness of the administrative procedures used by Federal agencies and makes recommendations for improvements to agencies, the President, Congress, and the Judicial Conference of the United States. The Chair of the Conference oversees a full-time staff within the Office of the Chair. The Office of the Chair supports the activities of the Assembly and undertakes many other activities to carry out the mission and functions of ACUS.

In 2019, ACUS adopted Recommendation 2021-9, Regulation of Representatives in Agency Adjudicative Proceedings, 87 FR 1721 (Jan. 12, 2022), which offers best practices for agencies to consider when developing rules governing the participation and conduct of attorneys and non-attorneys who represent parties in adjudicative proceedings. Recommendation 2021-9 also recommended that the Office of the Chair “consider promulgating model rules of conduct” consistent with the Recommendation and, in doing so, “seek the input of a diverse array of agency officials and members of the public, including representatives who appear before agencies, and the American Bar Association.” In 2023, the Chair convened a Working Group of public- and private-sector representatives to develop Model Rules of Representative Conduct that, as contemplated by Recommendation 2021-9, “account for variation in agency practice and afford agencies the flexibility to determine which rules apply to their adjudicative proceedings.”

The Working Group was composed of distinguished experts in the field of administrative adjudication, ranging from adjudicators and agency officials to private practitioners and academics. It first convened in February 2023 and met regularly throughout the following year to consider and ultimately approve a final draft of these Model Rules. The resulting Model Rules—which create a transparent, easily accessible set of guidelines that facilitate a wide range of representation in a broad array of agency proceedings—are intended to help federal agencies amend or develop their rules governing representatives in adjudicative proceedings consistent with the best practices identified in Recommendation 2021-9.

Additional information about ACUS's Model Rules of Representative Conduct project—including drafts, a listing of the Working Group members, and other related information—can be found on ACUS's website at https://www.acus.gov/research-projects/working-group-model-rules-representative-conduct.

Dated: September 25, 2024.
Shawne McGibbon,
General Counsel.

[FR Doc. 2024-22374 Filed 9-27-24; 8:45 am]

BILLING CODE 6110-01-P